Executive Order 14047 of September 17, 2021

Adding Measles to the List of Quarantinable Communicable Diseases

By the authority vested in me as President by the Constitution and the laws of the United States of America, including section 264(b) of title 42, United States Code, it is hereby ordered as follows:

Section 1. Amendment to Executive Order 13295. Based upon the recommendation of the Secretary of Health and Human Services, in consultation with the Surgeon General, and for the purposes set forth in section 1 of Executive Order 13295 of April 4, 2003 (Revised List of Quarantinable Communicable Diseases), section 1 of Executive Order 13295, as amended by Executive Order 13375 of April 1, 2005 (Amendment to Executive Order 13295 Relating to Certain Influenza Viruses and Quarantinable Communicable Diseases), and Executive Order 13674 of July 31, 2014 (Revised List of Quarantinable Communicable Diseases), shall be further amended by adding “Measles” to the existing list after “infectious Tuberculosis.”

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 17, 2021.

[FR Doc. 2021-20629

Filed 9-21-21; 8:45 am]

Billing code 3295-F1-P